DEPARTMENT OF THE INTERIOR

Minerals Management Service

Agency Information Collection Activities: Proposed Collection, Comment Request

AGENCY: Minerals Management Service (MMS), Interior.

ACTION: Notice of an extension of a currently approved information collection (OMB Control Number 1010-0110).

SUMMARY: To comply with the Paperwork Reduction Act of 1995 (PRA), we are inviting comments on a collection of information that we will submit to the Office of Management and Budget (OMB) for review and approval. The information collection request (ICR) is titled “Training and Outreach Evaluation.” The form associated with this collection is Form MMS-4420A-F, Training and Outreach Evaluation.

DATES: Submit written comments on or before January 5, 2007.

ADDRESSES: Submit written comments to Sharron L. Gebhardt, Regulatory Specialist, Minerals Management Service, Minerals Revenue Management, P.O. Box 25165, MS 302B2, Denver, Colorado 80225. If you use an overnight courier service, our courier address is Building 85, Room A-614, Denver Federal Center, 6th Ave. and Kipling Blvd., Denver, Colorado 80225. Please also send a copy of your comments to MMS via e-mail at mrm.comments@mms.gov. Include the title of the information collection and the OMB control number in the “Attention” line of your comment. Also include your name and return address. If you do not receive a confirmation that we have received your e-mail, contact Sharron L. Gebhardt at (303) 231-3211.

FOR FURTHER INFORMATION CONTACT: Sharron L. Gebhardt, telephone (303) 231-3211, FAX (303) 231-3781, or e-mail sharron.gebhardt@mms.gov.

SUPPLEMENTARY INFORMATION: Title: Training and Outreach Evaluation.

OMB Control Number: 1010-0110.

Bureau Form Number: Form MMS-4420A-F.

Abstract: The Secretary of the U.S. Department of the Interior is responsible for collecting royalties from lessees who produce minerals from leased Federal and Indian lands. The Secretary is required by various laws to manage mineral resources production on Federal and Indian lands, collect the royalties due, and distribute the funds in accordance with those laws. The Secretary also has an Indian trust responsibility to manage Indian lands and seek advice and information from Indian beneficiaries. The MMS performs the royalty management functions and assists the Secretary in carrying out the Department's Indian trust responsibility.

The MMS frequently provides training and outreach to our constituents to facilitate their compliance with laws and regulations and to ensure that they are well informed. We present training sessions to oil and gas and solid minerals reporters on various aspects of royalty reporting, production reporting, and valuation. Additionally, we provide training sessions to our financial and systems contractors, state and tribal auditors, and MMS employees. We provide instructor-led or computer-based training. We use the training and outreach evaluation form to survey our customers and to improve our training and outreach efforts, as directed in Executive Order 12862, Setting Customer Service Standards (September 11, 1993).

We ask participants to complete and return an evaluation form during the last few minutes of each training or outreach session or upon completion of computer-based training. Participant response is voluntary. Some questions are uniform across all of the evaluation forms; however, some questions are specific to the audience or to each type of training or outreach.

The MMS collects this information using Form MMS-4420A-F, Training and Outreach Evaluation. No proprietary information is submitted to MMS under this collection, and no items of a sensitive nature are collected. The requirement to respond is voluntary.

Frequency of Response: On occasion.

Estimated Number and Description of Respondents: 2,500 industry representatives, state and tribal auditors, MMS contractors, and MMS employees.

Estimated Annual Reporting and Recordkeeping “Hour” Burden: 400 hours.

Each part of the form requires 9 to 10 minutes to complete, based on the estimate used for the previous renewal of 9.6 minutes per evaluation or response. We calculated the burden hours, as follows: 2,500 respondents × 9.6 minutes = 24,000 minutes / 60 minutes = 400 hours.

Estimated Annual Reporting and Recordkeeping “Non-hour Cost” Burden: We have identified no “non-hour cost” burdens.

Comments: The PRA (44 U.S.C. 3501, et seq.) provides an agency may not conduct or sponsor, and a person is not required to respond to, a collection of information unless it displays a currently valid OMB control number. Before submitting an ICR to OMB, PRA Section 3506(c)(2)(A) requires each agency “* * * to provide notice * * * and otherwise consult with members of the public and affected agencies concerning each proposed collection of information * * *.” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

The PRA also requires agencies to estimate the total annual reporting “non-hour cost” burden to respondents or recordkeepers resulting from the collection of information. We have not identified non-hour cost burdens for this information collection. If you have costs to generate, maintain, and disclose this information, you should comment and provide your total capital and startup cost components or annual operation, maintenance, and purchase of service components. You should describe the methods you use to estimate major cost factors, including system and technology acquisition, expected useful life of capital equipment, discount rate(s), and the period over which you incur costs. Capital and startup costs include, among other items, computers and software you purchase to prepare for collecting information; monitoring, sampling, and testing equipment; and record storage facilities. Generally, your estimates should not include equipment or services purchased: (i) Before October 1, 1995; (ii) to comply with requirements not associated with the information collection; (iii) for reasons other than to provide information or keep records for the Government; or (iv) as part of customary and usual business or private practices.

We will summarize written responses to this notice and address them in our ICR submission for OMB approval, including appropriate adjustments to the estimated burden. We will provide a copy of the ICR to you without charge upon request, and the ICR will also be posted on our Web site at http://www.mrm.mms.gov/Laws_R_D/FRNotices/FRInfColl.htm.

Public Comment Policy: We will post all comments in response to this notice on our Web site at http://www.mrm.mms.gov/Laws_R_D/FRNotices/FRInfColl.htm. We will also make copies of the comments available for public review, including names and addresses of respondents, during regular business hours at our offices in Lakewood, Colorado. Individual respondents may request we withhold their home address from the public record, which we will honor to the extent allowable by law. There also may be circumstances in which we would withhold from the rulemaking record a respondent's identity, as allowable by law. If you request that we withhold your name and/or address, state this prominently at the beginning of your comment. However, we will not consider anonymous comments. We will make all submissions from organizations or businesses, and from individuals identifying themselves as representatives or officials of organizations or businesses, available for public inspection in their entirety.

MMS Information Collection Clearance Officer: Arlene Bajusz (202) 208-7744.

Dated: October 23, 2006.
Lucy Querques Denett,
Associate Director for Minerals Revenue Management.

[FR Doc. E6-18667 Filed 11-3-06; 8:45 am]

BILLING CODE 4310-MR-P